DEPARTMENT OF DEFENSE

Office of the Secretary

Defense Science Board

AGENCY: Department of Defense.

ACTION: Notice of Advisory Committee meeting date change.

SUMMARY: On Thursday, March 6, 2003 (68 FR 10704), the Department of Defense announced closed meetings of the Defense Science Board Task Force on Enabling Joint Force Capabilities. The Task Force meeting originally scheduled May 20, 2003, has been rescheduled to May 12, 2003, in Washington, DC.

Dated: April 30, 2003.
Patricia L. Toppings,
Alternate OSD Federal Register Liaison Officer, Department of Defense.

[FR Doc. 03-11584 Filed 5-8-03; 8:45 am]

BILLING CODE 5001-08-M